DEPARTMENT OF HOMELAND SECURITY

Coast Guard

33 CFR Part 117

[Docket No. USCG-2011-0953]

Drawbridge Operation Regulations; Mystic River, CT

AGENCY: Coast Guard, DHS.

ACTION: Notice of temporary deviation from regulations.

SUMMARY: The Commander, First Coast Guard District, has issued a temporary deviation from the regulation governing the operation of the Route 1 Bridge, mile 2.8, across the Mystic River, at Mystic, Connecticut. The deviation is necessary to facilitate a major bridge rehabilitation project. This deviation allows the bridge to remain in the closed position for four and a half months.

DATES: This deviation is effective from December 1, 2011 through April 15, 2012.

ADDRESSES: Documents mentioned in this preamble as being available in the docket are part of docket USCG-2011-0953 and are available online at http://www.regulations.gov, inserting USCG-2011-0953 in the “Keyword” and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, judy.k.leung-yee@uscg.mil, or telephone (212) 668-7165. If you have questions on viewing the docket, call Renee V. Wright, Program Manager, Docket Operations, telephone (202) 366-9826.

SUPPLEMENTARY INFORMATION: The Route 1 Bridge, across the Mystic River, mile 2.8, at Mystic, Connecticut, has a vertical clearance in the closed position of 4 feet at mean high water and 7 feet at mean low water. The drawbridge operation regulations are listed at 33 CFR 117.211(b).

The bridge rarely opens December through April except for testing.

The waterway users are recreational vessels of various sizes that do not operate during the winter months when this deviation will be in effect.

The owner of the bridge, Connecticut Department of Transportation, requested a temporary deviation from the regulations to facilitate a major bridge rehabilitation project.

During the bridge rehabilitation the bridge will be locked in the closed position and inoperable for any bridge openings.

The Coast Guard contacted the waterway users regarding the bridge closure and no objections were received.

Under this temporary deviation the Route 1 Bridge may remain in the closed position from December 1, 2011 through April 15, 2012.

Vessels that can pass under the bridge in the closed position may do so at any time.

In accordance with 33 CFR 117.35(e), the bridge must return to its regular operating schedule immediately at the end of the designated time period. This deviation from the operating regulations is authorized under 33 CFR 117.35.

Dated: October 18, 2011.
Gary Kassof,
Bridge Program Manager, First Coast Guard District.

[FR Doc. 2011-29239 Filed 11-10-11; 8:45 am]

BILLING CODE 9110-04-P